DEPARTMENT OF ENERGY

Federal Energy Regulatory Commission

[Project No. 11402-073]

City of Crystal Falls, MI; Notice of Application for Temporary Variance of License and Soliciting Comments, Motions To Intervene, and Protests

Take notice that the following hydroelectric application has been filed with the Commission and is available for public inspection:

a. Application Type: Temporary variance of license.

b. Project No.: 11402-073.

c. Date Filed: May 30, 2012.

d. Applicant: City of Crystal Falls, MI.

e. Name of Project: Crystal Falls Project.

f. Location: The project is located on the Paint River in the City of Crystal Falls, Michigan.

g. Filed Pursuant to: Federal Power Act, 16 U.S.C. 791a-825r.

h. Applicant Contact: Dave Graff, City of Crystal Falls, 401 Superior Avenue, Crystal Falls, MI 49920, (906) 875-6650.

i. FERC Contact: Rebecca Martin, (202) 502-6012, Rebecca.martin@ferc.gov.

j. Deadline for filing comments, motions to intervene, and protests: June 4, 2012.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-11402-073) on any comments or motions filed.

k. Description of Application: The City of Crystal Falls requests a variance for the following: (1) Impoundment drawdown will begin on July 27, 2012, at a rate of 1.0 foot per day for the first four days from its summer elevation of 1333.98 feet. Once the impoundment is drawn down 4.0 feet, then the drawdown rate will switch to 1.5 feet per day until a 20 foot drawdown is reached. (2) Once drawdown is complete the city will revert back to run-of-river where the outflow will match the inflow. (3) The impoundment will be filled as the inflow allows, while maintaining 150 cubic feet per second outflow. This shall occur as soon as possible but no later than November 1, 2012. (4) The scheduled water quality study will be conducted in July and August of 2013 rather than in 2012. (5) The barrier net will be lifted when the generators are no longer generating while the impoundment is in the drawdown state. During the drawdown the City will conduct surveys for stranded mussels and fish. Additionally, recreational access will be limited to canoes, kayaks, and small boats during the drawdown.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-2698) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 4, 2012.
Kimberly D. Bose,
Secretary.

[FR Doc. 2012-11351 Filed 5-10-12; 8:45 am]

BILLING CODE 6717-01-P